DEPARTMENT OF THE INTERIOR

Fish and Wildlife Service

50 CFR Part 17

[Docket No. FWS-HQ-ES-2014-0015; 92100-1111-0000]

RIN 1018-AY49

Endangered and Threatened Wildlife and Plants; Marine and Anadromous Taxa: Additions, Removal, Updates, and Corrections to the List of Endangered and Threatened Wildlife

AGENCY: Fish and Wildlife Service, Interior.

ACTION: Final rule.

SUMMARY: We, the U.S. Fish and Wildlife Service (Service), are amending the List of Endangered and Threatened Wildlife (List) by adding several marine taxa, removing one species, and revising the entries of many more in accordance with the Endangered Species Act of 1973, as amended (Act). These amendments are based on previously published determinations by the National Marine Fisheries Service (NMFS) of the National Oceanic and Atmospheric Administration, Department of Commerce, which has jurisdiction for these species.

DATES: This rule is effective July 23, 2014. For the applicability date for the status of newly listed taxa, see the individual species documents referenced in SUPPLEMENTARY INFORMATION.

FOR FURTHER INFORMATION CONTACT: Michael Franz, 703-358-2171.

SUPPLEMENTARY INFORMATION:

Background

In accordance with the Act (16 U.S.C. 1531 et seq.) and Reorganization Plan No. 4 of 1970 (35 FR 15627; October 6, 1970), NMFS has jurisdiction over the marine and anadromous taxa specified in this rule. Under section 4(a)(2) of the Act, NMFS must decide whether a species under its jurisdiction should be classified as endangered or threatened. NMFS makes these determinations via its rulemaking process. We, the Service, are then responsible for publishing final rules to amend the List in the Code of Federal Regulations (CFR) at 50 CFR 17.11(h).

As described below and set forth at the table in the rule portion of this document, NMFS has published rules regarding each of the species mentioned in this rule. Section 4(a)(2)(A) applies to all of the rules except that for the Steller sea lion (Eastern DPS); with respect to those rules, by publishing this final rule, we are simply taking the necessary administrative step to codify these changes in the CFR 4(a)(2)(B) applies to the NMFS's recommendation to delist the Steller sea lion (Eastern DPS); we have concurred with NMFS's recommendation, and this rule implements that action. In the lists below, DPS stands for distinct population segment, ESU stands for evolutionarily significant unit, and XN stands for nonessential experimental population.

Listings

We are adding the following 16 species to the List based on NMFS final rules:

• Steelhead (Middle Columbia River DPS), designation of nonessential experimental population (XN) (78 FR 2893; January 15, 2013)

• Seal, bearded (Beringia DPS), as threatened (77 FR 76740; December 28, 2012)

• Seal, bearded (Okhotsk DPS), as threatened (77 FR 76740; December 28, 2012)

• Seal, ringed (Arctic subspecies), as threatened (77 FR 76706; December 28, 2012)

• Seal, ringed (Baltic subspecies), as threatened (77 FR 76706; December 28, 2012)

• Seal, ringed (Ladoga subspecies), as endangered (77 FR 76706; December 28, 2012)

• Seal, ringed (Okhotsk subspecies), as threatened (77 FR 76706; December 28, 2012)

• Whale, false killer (Main Hawaiian Islands Insular DPS), as endangered (77 FR 70915; November 28, 2012)

• Salmon, coho (Central California Coast ESU), reaffirmed as endangered but with range extension (77 FR 19552; April 2, 2012)

• Sturgeon, Atlantic (Atlantic subspecies; Carolina DPS), as endangered (77 FR 5914; February 6, 2012)

• Sturgeon, Atlantic (Atlantic subspecies; Chesapeake Bay DPS), as endangered (77 FR 5880; February 6, 2012)

• Sturgeon, Atlantic (Atlantic subspecies; Gulf of Maine DPS), as threatened (77 FR 5880; February 6, 2012)

• Sturgeon, Atlantic (Atlantic subspecies; New York Bight DPS), as endangered (77 FR 5880; February 6, 2012)

• Sturgeon, Atlantic (Atlantic subspecies; South Atlantic DPS), as endangered (77 FR 5914; February 6, 2012)

• Sawfish, largetooth, as endangered (76 FR 40822; July 12, 2011)

• Salmon, coho (Oregon Coast ESU), as threatened with critical habitat (76 FR 35755; June 20, 2011) reaffirming listing (73 FR 7816; February 11, 2008)

Please note: The Oregon Coast coho salmon ESU was listed on August 10, 1998, as threatened (63 FR 42587), but in 2001, the U.S. District Court in Eugene, Oregon, set aside that listing (Alsea Valley Alliance v. Evans, 161 F. Supp 2d 1154, (D. Or. 2001)). On February 11, 2008, NMFS listed the Oregon Coast coho salmon ESU as threatened, issued protective regulations under section 4(d) of the Act (known as a 4(d) rule), and designated critical habitat (73 FR 7816). As a result of another court challenge (Douglas County v. Balsiger (Civ. No. 08-1547; D. Or. 2008)), NMFS reached a settlement with the litigants and agreed to conduct another status review of the ESU. After conducting the additional status review, NMFS affirmed the status for this ESU by promulgating a rule to supersede its February 11, 2008, listing determination (76 FR 35755; June 20, 2011).

Delisting

We are removing the following species from the List based on a NMFS final rule:

• Sea lion, Steller (Eastern DPS) (78 FR 66140; November 4, 2013)

Critical Habitat

We are adding critical habitat to the following species based on a NMFS final rule:

• Abalone, black (76 FR 66806; October 27, 2011)

• Eulachon, Pacific (Southern DPS) (76 FR 65324; October 20, 2011)

• Whale, beluga (Cook Inlet DPS) (76 FR 20180; April 11, 2011)

Updating

We are updating 42 entries on the List by referencing the respective NMFS Lists at 50 CFR 223.102 or 50 CFR 224.101 in the “Vertebrate population where endangered or threatened” column to make it easier for the public to identify and obtain the current descriptions of the following listed marine taxa:

• Bocaccio (Puget Sound/Georgia Basin DPS)

• Eulachon, Pacific (Southern DPS)

• Rockfish, canary (Puget Sound/Georgia Basin DPS)

• Rockfish, yelloweye (Puget Sound/Georgia Basin DPS)

• Salmon, Atlantic (Gulf of Maine DPS)

• Salmon, Chinook (California Coastal ESU)

• Salmon, Chinook (Central Valley spring-run ESU)

• Salmon, Chinook (Lower Columbia River ESU)

• Salmon, Chinook (Puget Sound ESU)

• Salmon, Chinook (Sacramento River winter-run ESU)

• Salmon, Chinook (Snake River fall-run ESU)

• Salmon, Chinook (Snake River spring/summer-run ESU)

• Salmon, Chinook (Upper Columbia River spring-run ESU)

• Salmon, Chinook (Upper Willamette River ESU)

• Salmon, chum (Columbia River ESU)

• Salmon, chum (Hood Canal summer-run ESU)

• Salmon, coho (Central California Coast ESU)

• Salmon, coho (Lower Columbia River ESU)

• Salmon, coho (Oregon Coast ESU)

• Salmon, coho (Southern Oregon/Northern California Coast ESU)

• Salmon, sockeye (Ozette Lake ESU)

• Salmon, sockeye (Snake River ESU)

• Sawfish, smalltooth (United States DPS)

• Sea lion, Steller (Western DPS)

• Sea turtle, green

• Sea turtle, olive ridley

• Seal, spotted (Southern DPS)

• Steelhead (California Central Valley DPS)

• Steelhead (Central California Coast DPS)

• Steelhead (Lower Columbia River DPS)

• Steelhead (Middle Columbia River DPS)

• Steelhead (Northern California DPS)

• Steelhead (Puget Sound DPS)

• Steelhead (Snake River Basin DPS)

• Steelhead (South-Central California Coast DPS)

• Steelhead (Southern California DPS)

• Steelhead (Upper Columbia River DPS)

• Steelhead (Upper Willamette River DPS)

• Sturgeon, North American green (Southern DPS)

• Whale, beluga (Cook Inlet DPS)

• Whale, gray (Western North Pacific DPS)

• Whale, killer (Southern Resident DPS)

Correcting

We are updating 53 entries on the List based on NMFS final rules and to make these entries easier to understand for the public. Updates include: corrections to the scientific and common names of species that were either misspelled or omitted in error in previous Federal Register notices; grouping change; corrections to the “Vertebrate population where endangered or threatened” column where previously “NA” was used in error; and, additions to the “Special rules” column for some marine taxa where previously “NA” was used or the rule was not included. Below are the marine taxa for which updates are being applied:

• Abalone, black

• Abalone, white

• Bocaccio (Puget Sound/Georgia Basin DPS)

• Coral, elkhorn

• Coral, staghorn

• Dolphin, Indus River

• Eulachon, Pacific (Southern DPS)

• Rockfish, canary (Puget Sound/Georgia Basin DPS)

• Rockfish, yelloweye (Puget Sound/Georgia Basin DPS)

• Salmon, Atlantic (Gulf of Maine DPS)

• Salmon, Chinook (California Coastal ESU)

• Salmon, Chinook (Central Valley spring-run ESU)

• Salmon, Chinook (Lower Columbia River ESU)

• Salmon, Chinook (Puget Sound ESU)

• Salmon, Chinook (Sacramento River winter-run ESU)

• Salmon, Chinook (Snake River fall-run ESU)

• Salmon, Chinook (Snake River spring/summer-run ESU)

• Salmon, Chinook (Upper Columbia River spring-run ESU)

• Salmon, Chinook (Upper Willamette River ESU)

• Salmon, chum (Columbia River ESU)

• Salmon, chum (Hood Canal summer-run ESU)

• Salmon, coho (Central California Coast ESU)

• Salmon, coho (Lower Columbia River ESU)

• Salmon, coho (Oregon Coast ESU)

• Salmon, coho (Southern Oregon/Northern California Coast ESU)

• Salmon, sockeye (Ozette Lake ESU)

• Salmon, sockeye (Snake River ESU)

• Sawfish, smalltooth (United States DPS)

• Sea lion, Steller (Western DPS)

• Sea turtle, loggerhead (Mediterranean Sea DPS)

• Sea turtle, loggerhead (North Indian Ocean DPS)

• Sea turtle, loggerhead (North Pacific Ocean DPS)

• Sea turtle, loggerhead (Northeast Atlantic Ocean DPS)

• Sea turtle, loggerhead (Northwest Atlantic Ocean DPS)

• Sea turtle, loggerhead (South Atlantic Ocean DPS)

• Sea turtle, loggerhead (South Pacific Ocean DPS)

• Sea turtle, loggerhead (Southeast Indo-Pacific Ocean DPS)

• Sea turtle, loggerhead (Southwest Indian Ocean DPS)

• Seal, spotted (Southern DPS)

• Steelhead (California Central Valley DPS)

• Steelhead (Central California Coast DPS)

• Steelhead (Lower Columbia River DPS)

• Steelhead (Middle Columbia River DPS)

• Steelhead (Northern California DPS)

• Steelhead (Puget Sound DPS)

• Steelhead (Snake River Basin DPS)

• Steelhead (South-Central California Coast DPS)

• Steelhead (Southern California DPS)

• Steelhead (Upper Columbia River DPS)

• Steelhead (Upper Willamette River DPS)

• Sturgeon, North American green (Southern DPS)

• Whale, beluga (Cook Inlet DPS)

• Whale, killer (Southern Resident DPS)

Changes to Common Names

We are changing the presentation of the common names of the following species to conform with the way that NMFS refers to these species:

• “Dolphin, Indus River” will now appear on the List as “Dolphin, South Asian River (Indus River subspecies).”

• “Eulachon, Pacific (Southern DPS)” will now appear on the List as “Eulachon (Southern DPS).”

• “Sea-lion, Steller” will now appear on the List as “Sea lion, Steller (Western DPS).”

• “Seal, Saimaa” will now appear on the List as “Seal, ringed (Saimaa subspecies).”

• “Sturgeon, Gulf” will now appear on the List as “Sturgeon, Atlantic (Gulf subspecies).”

• “Sturgeon, North American green (Southern DPS)” will now appear on the List as “Sturgeon, green (Southern DPS).”

• “Sturgeon, white” will now appear on the List as “Sturgeon, white (Kootenai River DPS).”

Administrative Procedure Act

Because NMFS provided a public comment period on each of the proposed rules for these taxa, we find good cause that the notice and public comment procedures of 5 U.S.C. 553(b) are unnecessary for this action. We also find good cause under 5 U.S.C. 553(d)(3) to make this rule effective immediately under publication. The NMFS rules extended protection under the Act to these species and listed them in 50 CFR parts 223 and 224 or designated critical habitat under 50 CFR part 226; this rule is an administrative action to add the species to or update their status on the List in 50 CFR 17.11(h). The public would not be served by delaying the effective date of this rulemaking action.

Required Determinations

National Environmental Policy Act

We have determined that an environmental assessment, as defined under the authority of the National Environmental Policy Act of 1969, need not be prepared in connection with regulations adopted pursuant to section 4(a) of the Act. We outlined our reasons for this determination in the Federal Register on October 25, 1983 (48 FR 49244).

Paperwork Reduction Act

We have examined this regulation under the Paperwork Reduction Act of 1995 and found it to contain no information collection requirements. We may not conduct or sponsor, and you are not required to respond to, a collection of information unless it displays a currently valid Office of Management and Budget control number.

List of Subjects in 50 CFR Part 17

Endangered and threatened species, Exports, Imports, Reporting and recordkeeping requirements, Transportation.

Regulation Promulgation

Accordingly, we amend part 17, subchapter B of chapter I, title 50 of the Code of Federal Regulations, as set forth below:

PART 17—[AMENDED]

1. The authority citation for part 17 continues to read as follows:

Authority: 16 U.S.C. 1361-1407; 1531-1544; and 4201-4245, unless otherwise noted.

2. Amend § 17.11(h) by:

a. Removing entries under Mammals for Dolphin, Indus River (Platanista minor); both entries for Sea-lion, Steller (Eumetopias jubatus); and Seal, Saimaa (Phoca hispida saimensis);

b. Removing entries under Reptiles for Sea turtle, loggerhead, Mediterranean Sea (Caretta caretta); Sea turtle, loggerhead, North Indian Ocean (Caretta caretta); Sea turtle, loggerhead, North Pacific Ocean (Caretta caretta); Sea turtle, loggerhead, Northeast Atlantic Ocean (Caretta caretta); Sea turtle, loggerhead, Northwest Atlantic Ocean (Caretta caretta); Sea turtle, loggerhead, South Atlantic Ocean (Caretta caretta); Sea turtle, loggerhead, South Pacific Ocean (Caretta caretta); Sea turtle, loggerhead, Southeast Indo-Pacific Ocean (Caretta caretta); and Sea turtle, loggerhead, Southwest Indian Ocean (Caretta caretta);

c. Removing entries under Fishes for Eulachon, Pacific (Southern DPS) (Thaleichthyspacificus); Sturgeon, Gulf (Acipenser oxyrinchus (=oxyrhynchus) desotoi); Sturgeon, North American green (Southern DPS) (Acipensermedirostris); and Sturgeon, white (Acipenser transmontanus);

d. Removing the entry under Clams for Abalone, white (Haliotis sorenseni);

e. Adding entries in alphabetical order under Mammals for Dolphin, South Asian River (Indus River subspecies) (Platanista gangetica minor); Sea lion, Steller (Western DPS) (Eumetopias jubatus); Seal, bearded (Beringia DPS) (Erignathus barbatus nauticus); Seal, bearded (Okhotsk DPS) (Erignathus barbatus nauticus); Seal, ringed (Arctic subspecies) (Phoca (= Pusa) hispida hispida); Seal, ringed (Baltic subspecies) (Phoca (= Pusa) hispida botnica); Seal, ringed (Ladoga subspecies) (Phoca (=Pusa) hispida ladogensis); Seal, ringed (Okhotsk subspecies) (Phoca (=Pusa) hispida ochotensis); Seal, ringed (Saimaa subspecies) (Phoca hispida saimensis); and Whale, false killer (Main Hawaiian Islands Insular DPS) (Pseudorca crassidens);

f. Adding entries in alphabetical order under Reptiles for Sea turtle, loggerhead (Mediterranean Sea DPS) (Caretta caretta); Sea turtle, loggerhead (North Indian Ocean DPS) (Caretta caretta); Sea turtle, loggerhead (North Pacific Ocean DPS) (Caretta caretta); Sea turtle, loggerhead (Northeast Atlantic Ocean DPS) (Caretta caretta); Sea turtle, loggerhead (Northwest Atlantic Ocean DPS) (Caretta caretta); Sea turtle, loggerhead (South Atlantic Ocean DPS) (Caretta caretta); Sea turtle, loggerhead (South Pacific Ocean DPS) (Caretta caretta); Sea turtle, loggerhead (Southeast Indo-Pacific Ocean DPS) (Caretta caretta); and Sea turtle, loggerhead (Southwest Indian Ocean DPS) (Caretta caretta);

g. Adding entries in alphabetical order under Fishes for Eulachon (Southern DPS) (Thaleichthys pacificus); Salmon, Chinook (Central Valley spring-run ESU—XN) (Oncorhynchus tshawytscha), to follow the current entry for “Salmon, Chinook (California Coastal ESU) (Oncorhynchus tshawytscha)”; Sawfish, largetooth (Pristis perotteti); Steelhead (Middle Columbia River DPS—XN) (Oncorhynchus mykiss), to follow the current entry for “Steelhead (Middle Columbia River DPS) (Oncorhynchus mykiss)”; Sturgeon, Atlantic (Atlantic subspecies; Carolina DPS) (Acipenser oxyrinchus oxyrinchus); Sturgeon, Atlantic (Atlantic subspecies; Chesapeake Bay DPS) (Acipenser oxyrinchus oxyrinchus); Sturgeon, Atlantic (Atlantic subspecies; Gulf of Maine DPS) (Acipenser oxyrinchus oxyrinchus); Sturgeon, Atlantic (Atlantic subspecies; New York Bight DPS) (Acipenser oxyrinchus oxyrinchus); Sturgeon, Atlantic (Atlantic subspecies; South Atlantic DPS) (Acipenser oxyrinchus oxyrinchus); Sturgeon, Atlantic (Gulf subspecies) (Acipenser oxyrinchus (=oxyrhynchus) desotoi); Sturgeon, green (Southern DPS) (Acipenser medirostris); and Sturgeon, white (Kootenai River DPS) (Acipenser transmontanus);

h. Adding an entry in alphabetical order under Snails for Abalone, white (Haliotis sorenseni);

i. Revising entries under Mammals for Seal, spotted (Southern DPS) (Phoca largha); Whale, beluga (Cook Inlet DPS) (Delphinapterus leucas); Whale, gray (Western North Pacific DPS) (Eschrichtius robustus); and Whale, killer (Southern Resident DPS) (Pseudorca crassidens);

j. Revising under Reptiles both entries for Sea turtle, green (Chelonia mydas) and both entries for Sea turtle, olive ridley (Lepidochelys olivacea);

k. Revising entries under Fishes for Bocaccio (Puget Sound—Georgia Basin DPS) (Sebastes paucispinis); Rockfish, canary (Puget Sound—Georgia Basin DPS) (Sebastes pinniger); Rockfish, yelloweye (Puget sound—Georgia Basin DPS) (Sebastes ruberrimus); Salmon, Atlantic (Gulf of Maine DPS) (Salmo salar); Salmon, Chinook (California Coastal ESU) (Oncorhynchus tshawytscha); Salmon, Chinook (Central Valley spring-run ESU) (Oncorhynchus tshawytscha); Salmon, Chinook (Lower Columbia River ESU) (Oncorhynchus tshawytscha); Salmon, Chinook (Puget Sound ESU) (Oncorhynchus tshawytscha); Salmon, Chinook (Sacramento River winter-run ESU) (Oncorhynchus tshawytscha); Salmon, Chinook (Snake River fall-run ESU) (Oncorhynchus tshawytscha); Salmon, Chinook (Snake River spring/summer-run ESU) (Oncorhynchus tshawytscha); Salmon, Chinook (Upper Columbia River spring-run ESU) (Oncorhynchus tshawytscha); Salmon, Chinook (Upper Willamette River ESU) (Oncorhynchus tshawytscha); Salmon, chum (Columbia River ESU) (Oncorhynchus keta); Salmon, chum (Hood Canal summer-run ESU) (Oncorhynchus keta); Salmon, coho (Central California Coast ESU) (Oncorhynchus kisutch); Salmon, coho (Lower Columbia River ESU) (Oncorhynchus kisutch); Salmon, coho (Oregon Coast ESU) (Oncorhynchus kisutch); Salmon, coho (Southern Oregon—Northern California Coast ESU) (Oncorhynchus kisutch); Salmon, sockeye (Ozette Lake ESU) (Oncorhynchus nerka); Salmon, sockeye (Snake River ESU) (Oncorhynchus nerka); Sawfish, smalltooth (United States DPS) (Pristis pectinata); Steelhead (California Central Valley DPS) (Oncorhynchus mykiss); Steelhead (Central California Coast DPS) (Oncorhynchus mykiss); Steelhead (Lower Columbia River DPS) (Oncorhynchus mykiss); Steelhead (Middle Columbia River DPS) (Oncorhynchus mykiss); Steelhead (Northern California DPS) (Oncorhynchus mykiss); Steelhead (Puget Sound DPS) (Oncorhynchus mykiss); Steelhead (Snake River Basin DPS) (Oncorhynchus mykiss); Steelhead (South-Central California Coast DPS) (Oncorhynchus mykiss); Steelhead (Southern California DPS) (Oncorhynchus mykiss); Steelhead (Upper Columbia River DPS) (Oncorhynchus mykiss); and Steelhead (Upper Willamette River DPS) (Oncorhynchus mykiss);

l. Revising the entry under Snails for Abalone, Black (Haliotiscracherodii); and

m. Revising the entries under Corals for Coral, elkhorn (Acropora palmata) and Coral, staghorn (Acropora cervicornis.)

The additions and revisions read as follows:

§ 17.11 Endangered and threatened wildlife.

* * * * *

(h) * * *

* * * * *

Species: Common name | Species: Scientific name | Historic Range | Vertebrate population where endangered or threatened | Status | When listed | Critical habitat | Special rules
Mammals
* * * * * * *
Dolphin, South Asian River (Indus River subspecies) | Platanista gangetica minor | Pakistan (Indus R. and tributaries) | Entire | E | 417 | NA | NA
* * * * * * *
Sea lion, Steller (Western DPS) | Eumetopias jubatus | U.S.A. (AK, CA, OR, WA), Canada, Russia; North Pacific Ocean | Western DPS—see 50 CFR 224.101 | E | 384E, 408, 614 | 226.202 | 224.103, 226.202
Seal, bearded (Beringia DPS) | Erignathus barbatus nauticus | Arctic and Pacific Oceans | Beringia DPS—see 50 CFR 223.102 | T | 816 | NA | NA
Seal, bearded (Okhotsk DPS) | Erignathus barbatus nauticus | Pacific Ocean | Okhotsk DPS—see 50 CFR 223.102 | T | 816 | NA | NA
* * * * * * *
Seal, ringed (Arctic subspecies) | Phoca (=Pusa) hispida hispida | Arctic Ocean | Entire | T | 816 | NA | NA
Seal, ringed (Baltic subspecies) | Phoca (=Pusa) hispida botnica | Baltic Sea | Entire | T | 816 | NA | NA
Seal, ringed (Ladoga subspecies) | Phoca (=Pusa ) hispida ladogensis | Russia (Lake Ladoga) | Entire | E | 816 | NA | NA
Seal, ringed (Okhotsk subspecies) | Phoca (=Pusa) hispida ochotensis | Pacific Ocean | Entire | T | 816 | NA | NA
Seal, ringed (Saimaa subspecies) | Phoca hispida saimensis | Finland (Lake Saimaa) | Entire | E | 508 | NA | NA
Seal, spotted (Southern DPS) | Phoca largha | Pacific Ocean; Sea of Japan and northern Yellow Sea | Southern DPS—see 50 CFR 223.102 | T | 776 | NA | 223.212
* * * * * * *
Whale, beluga (Cook Inlet DPS) | Delphinapterus leucas | Oceanic; Cook Inlet, northern Gulf of Alaska | Cook Inlet DPS—see 50 CFR 224.101 | E | 776 | 226.220 | NA
* * * * * * *
Whale, false killer (Main Hawaiian Islands Insular DPS) | Pseudorca crassidens | Main Hawaiian Islands | Main Hawaiian Islands Insular DPS—see 50 CFR 224.101 | E | 816 | NA | NA
* * * * * * *
Whale, gray (Western North Pacific DPS) | Eschrichtius robustus | North Pacific Ocean—coastal and Bering Sea, formerly North Atlantic Ocean | Western North Pacific DPS—see 50 CFR 224.101 | E | 3, 540 | NA | NA
* * * * * * *
Whale, killer (Southern Resident DPS) | Orcinus orca | Pacific Ocean | Southern Resident DPS—see 50 CFR 224.101 | E | 756 | 226.206 | 224.103
* * * * * * *
Reptiles
* * * * * * *
Sea turtle, green | Chelonia mydas | Circumglobal in tropical and temperate seas and oceans | Breeding colony populations in FL and on Pacific coast of Mexico | E | 42 | 226.208 | 224.104
Sea turtle, green | Chelonia mydas | Circumglobal in tropical and temperate seas and oceans | Entire species, except when listed as endangered under 50 CFR 224.101 | T | 42 | 226.208 | 17.42(b), 223.205, 223.206, 223.207
* * * * * * *
Sea turtle, loggerhead (Mediterranean Sea DPS) | Caretta caretta | Mediterranean Sea Basin | Loggerhead sea turtles originating from the Mediterranean Sea east of 5°36′ W. Long | E | 794 | NA | 224.104
Sea turtle, loggerhead (North Indian Ocean DPS) | Caretta caretta | North Indian Ocean Basin | Loggerhead sea turtles originating from the North Indian Ocean north of the equator and south of 30° N. Lat | E | 794 | NA | 224.104
Sea turtle, loggerhead (North Pacific Ocean DPS) | Caretta caretta | North Pacific Ocean Basin | Loggerhead sea turtles originating from the North Pacific north of the equator and south of 60° N. Lat | E | 794 | NA | 224.104
Sea turtle, loggerhead (Northeast Atlantic Ocean DPS) | Caretta caretta | Northeast Atlantic Ocean Basin | Loggerhead sea turtles originating from the Northeast Atlantic Ocean north of the equator, south of 60° N. Lat., and east of 40° W. Long., except in the vicinity of the Strait of Gibraltar where the eastern boundary is 5°36′ W. Long | E | 794 | NA | 224.104
Sea turtle, loggerhead (Northwest Atlantic Ocean DPS) | Caretta caretta | Northwest Atlantic Ocean Basin | Loggerhead sea turtles originating from the Northwest Atlantic Ocean north of the equator, south of 60° N. Lat., and west of 40° W. Long | T | 794 | NA | 223.205, 223.206, 223.207
Sea turtle, loggerhead (South Atlantic Ocean DPS) | Caretta caretta | South Atlantic Ocean Basin | Loggerhead sea turtles originating from the South Atlantic Ocean south of the equator, north of 60° S. Lat., west of 20° E. Long., and east of 67° W. Long | T | 794 | NA | 223.205, 223.206, 223.207
Sea turtle, loggerhead (South Pacific Ocean DPS) | Caretta caretta | South Pacific Ocean Basin | Loggerhead sea turtles originating from the South Pacific south of the equator, north of 60° S. Lat., west of 67° W. Long., and east of 141° E. Long | E | 794 | NA | 224.104
Sea turtle, loggerhead (Southeast Indo-Pacific Ocean DPS) | Caretta caretta | Southeast Indian Ocean Basin; South Pacific Ocean Basin as far east as 141° E. Long | Loggerhead sea turtles originating from the Southeast Indian Ocean south of the equator, north of 60° S. Lat., and east of 80° E. Long.; South Pacific Ocean south of the equator, north of 60° S. Lat., and west of 141° E. Long | T | 794 | NA | 223.205, 223.206, 223.207
Sea turtle, loggerhead (Southwest Indian Ocean DPS) | Caretta caretta | Southwest Indian Ocean Basin | Loggerhead sea turtles originating from the Southwest Indian Ocean north of the equator, south of 30° N. Lat., east of 20° E. Long., and west of 80° E. Long | T | 794 | NA | 223.205, 223.206, 223.207
Sea turtle, olive ridley | Lepidochelys olivacea | Circumglobal in tropical and temperate seas | Breeding colony populations on Pacific coast of Mexico | E | 42 | NA | 224.104
Sea turtle, olive ridley | Lepidochelys olivacea | Circumglobal in tropical and temperate seas | Entire species, except when listed as endangered under 50 CFR 224.101 | T | 42 | NA | 17.42(b), 223.205, 223.206, 223.207
* * * * * * *
Fishes
* * * * * * *
Bocaccio (Puget Sound-Georgia Basin DPS) | Sebastes paucispinis | Pacific coast from Punta Blanca, Baja California, to the Gulf of Alaska off Krozoff and Kodiak Islands | Puget Sound-Georgia Basin DPS—see 50 CFR 224.101 | E | 776 | NA | NA
* * * * * * *
Eulachon (Southern DPS) | Thaleichthys pacificus | Eastern Pacific Ocean, from northern California to southwestern Alaska and into the southeastern Bering Sea | Southern DPS—see 50 CFR 223.102 | T | 776 | 226.222 | NA
* * * * * * *
Rockfish, canary (Puget Sound-Georgia Basin DPS) | Sebastes pinniger | Pacific coast from Punta Colnett, Baja California, to the Western Gulf of Alaska | Puget Sound-Georgia Basin DPS—see 50 CFR 223.102 | T | 776 | NA | NA
Rockfish, yelloweye (Puget Sound-Georgia Basin DPS) | Sebastes ruberrimus | Pacific coast from northern Baja California to the Aleutian Islands, Alaska | Puget Sound-Georgia Basin DPS—see 50 CFR 223.102 | T | 776 | NA | NA
Salmon, Atlantic (Gulf of Maine DPS) | Salmo salar | U.S.A., Canada, Greenland, western Europe | Gulf of Maine DPS—see 50 CFR 224.101 | E | 705 | 226.217 | NA
Salmon, Chinook (California Coastal ESU) | Oncorhynchus tshawytscha | North America from Ventura River in California to Point Hope, Alaska, and the Mackenzie River area in Canada; northeast Asia from Hokkaido, Japan, to the Anadyr River, Russia | California Coastal ESU—see 50 CFR 223.102 | T | 674 | 226.211 | 223.203
Salmon, Chinook (Central Valley spring-run ESU) | Oncorhynchus tshawytscha | North America from Ventura River in California to Point Hope, Alaska, and the Mackenzie River area in Canada; northeast Asia from Hokkaido, Japan, to the Anadyr River, Russia | Central Valley spring-run ESU—see 50 CFR 223.102 | T | 674 | 226.211 | 223.203
Salmon, Chinook (Central Valley spring-run ESU—XN) | Oncorhynchus tshawytscha | North America from Ventura River in California to Point Hope, Alaska, and the Mackenzie River area in Canada; northeast Asia from Hokkaido, Japan, to the Anadyr River, Russia | Central Valley spring-run ESU—XN—see 50 CFR 223.102 | XN | 816 | NA | 223.301
Salmon, Chinook (Lower Columbia River ESU) | Oncorhynchus tshawytscha | North America from Ventura River in California to Point Hope, Alaska, and the Mackenzie River area in Canada; northeast Asia from Hokkaido, Japan, to the Anadyr River, Russia | Lower Columbia River ESU—see 50 CFR 223.102 | T | 664 | 226.212 | 223.203
Salmon, Chinook (Puget Sound ESU) | Oncorhynchus tshawytscha | North America from Ventura River in California to Point Hope, Alaska, and the Mackenzie River area in Canada; northeast Asia from Hokkaido, Japan, to the Anadyr River, Russia | Puget Sound ESU—see 50 CFR 223.102 | T | 664 | 226.212 | 223.203
Salmon, Chinook (Sacramento River winter-run ESU) | Oncorhynchus tshawytscha | North America from Ventura River in California to Point Hope, Alaska, and the Mackenzie River area in Canada; northeast Asia from Hokkaido, Japan, to the Anadyr River, Russia | Sacramento River winter-run ESU—see 50 CFR 224.101 | E | 383E, 407, 534 | 226.204 | NA
Salmon, Chinook (Snake River fall-run ESU) | Oncorhynchus tshawytscha | North America from Ventura River in California to Point Hope, Alaska, and the Mackenzie River area in Canada; northeast Asia from Hokkaido, Japan, to the Anadyr River, Russia | Snake River fall-run ESU—see 50 CFR 223.102 | T | 516, 557E | 226.205 | 223.203
Salmon, Chinook (Snake River spring/summer-run ESU) | Oncorhynchus tshawytscha | North America from Ventura River in California to Point Hope, Alaska, and the Mackenzie River area in Canada; northeast Asia from Hokkaido, Japan, to the Anadyr River, Russia | Snake River spring/summer-run ESU—see 50 CFR 223.102 | T | 516, 557E | 226.205 | 223.203
Salmon, Chinook (Upper Columbia River spring-run ESU) | Oncorhynchus tshawytscha | North America from Ventura River in California to Point Hope, Alaska, and the Mackenzie River area in Canada; northeast Asia from Hokkaido, Japan, to the Anadyr River, Russia | Upper Columbia River spring-run ESU—see 50 CFR 224.101 | E | 664 | 226.212 | NA
Salmon, Chinook (Upper Willamette River ESU) | Oncorhynchus tshawytscha | North America from Ventura River in California to Point Hope, Alaska, and the Mackenzie River area in Canada; northeast Asia from Hokkaido, Japan, to the Anadyr River, Russia | Upper Willamette River ESU—see 50 CFR 223.102 | T | 664 | 226.212 | 223.203
Salmon, chum (Columbia River ESU) | Oncorhynchus keta | North Pacific Rim from Korea and the Japanese Island of Honshu east to Monterey Bay, California; Arctic Ocean from the Laptev Sea in Russia to Mackenzie River in Canada | Columbia River ESU—see 50 CFR 223.102 | T | 664 | 226.212 | 223.203
Salmon, chum (Hood Canal summer-run ESU) | Oncorhynchus keta | North Pacific Rim from Korea and the Japanese Island of Honshu east to Monterey Bay, California; Arctic Ocean from the Laptev Sea in Russia to Mackenzie River in Canada | Hood Canal summer-run ESU—see 50 CFR 223.102 | T | 664 | 226.212 | 223.203
Salmon, coho (Central California Coast ESU) | Oncorhynchus kisutch | North Pacific Basin from U.S.A. (CA to AK) to Russia and Japan | Central California Coast ESU—see 50 CFR 224.101 | E | 598 | 226.210 | NA
Salmon, coho (Lower Columbia River ESU) | Oncorhynchus kisutch | North Pacific Basin from U.S.A. (CA to AK) to Russia and Japan | Lower Columbia River ESU—see 50 CFR 223.102 | T | 776 | NA | 223.203
Salmon, coho (Oregon Coast ESU) | Oncorhynchus kisutch | North Pacific Basin from U.S.A. (CA to AK) to Russia and Japan | Oregon Coast ESU—see 50 CFR 223.102 | T | 776 | 226.212 | 223.203
Salmon, coho (Southern Oregon—Northern California Coast ESU) | Oncorhynchus kisutch | North Pacific Basin from U.S.A. (CA to AK) to Russia and Japan | Southern Oregon—Northern California Coast ESU—see 50 CFR 223.102 | T | 618 | 226.210 | 223.203
Salmon, sockeye (Ozette Lake ESU) | Oncorhynchus nerka | North Pacific Basin from U.S.A. (CA) to Russia | Ozette Lake ESU—see 50 CFR 223.102 | T | 664 | 226.212 | 223.203
Salmon, sockeye (Snake River ESU) | Oncorhynchus nerka | North Pacific Basin from U.S.A. (CA) to Russia | Snake River ESU—see 50 CFR 224.101 | E | 455 | 226.205 | NA
* * * * * * *
Sawfish, largetooth | Pristis perotteti | Eastern and Western Atlantic, Caribbean and Gulf of Mexico | Entire | E | 816 | NA | NA
Sawfish, smalltooth (United States DPS) | Pristis pectinata | North Atlantic (Mediterranean, U.S. Atlantic and Gulf of Mexico) and the Southwest Atlantic | United States DPS—see 50 CFR 224.101 | E | 748 | 226.218 | NA
* * * * * * *
Steelhead (California Central Valley DPS) | Oncorhynchus mykiss | North Pacific Ocean from the Kamchatka Peninsula in Asia to the northern Baja Peninsula | California Central Valley DPS—see 50 CFR 223.102 | T | 638 | 226.211 | 223.203
Steelhead (Central California Coast DPS) | Oncorhynchus mykiss | North Pacific Ocean from the Kamchatka Peninsula in Asia to the northern Baja Peninsula | Central California Coast DPS—see 50 CFR 223.102 | T | 638 | 226.211 | 223.203
Steelhead (Lower Columbia River DPS) | Oncorhynchus mykiss | North Pacific Ocean from the Kamchatka Peninsula in Asia to the northern Baja Peninsula | Lower Columbia River DPS—see 50 CFR 223.102 | T | 638 | 226.212 | 223.203
Steelhead (Middle Columbia River DPS) | Oncorhynchus mykiss | North Pacific Ocean from the Kamchatka Peninsula in Asia to the northern Baja Peninsula | Middle Columbia River DPS—see 50 CFR 223.102 | T | 664 | 226.212 | 223.203
Steelhead (Middle Columbia River DPS—XN) | Oncorhynchus mykiss | North Pacific Ocean from the Kamchatka Peninsula in Asia to the northern Baja Peninsula | Middle Columbia River DPS—XN—see 50 CFR 223.102 | XN | 816 | NA | 223.301
Steelhead (Northern California DPS) | Oncorhynchus mykiss | North Pacific Ocean from the Kamchatka Peninsula in Asia to the northern Baja Peninsula | Northern California DPS—see 50 CFR 223.102 | T | 701 | 226.211 | 223.203
Steelhead (Puget Sound DPS) | Oncorhynchus mykiss | North Pacific Ocean from the Kamchatka Peninsula in Asia to the northern Baja Peninsula | Puget Sound DPS—see 50 CFR 223.102 | T | 776 | NA | 223.203
Steelhead (Snake River Basin DPS) | Oncorhynchus mykiss | North Pacific Ocean from the Kamchatka Peninsula in Asia to the northern Baja Peninsula | Snake River Basin DPS—see 50 CFR 223.102 | T | 638 | 226.212 | 223.203
Steelhead (South-Central California Coast DPS) | Oncorhynchus mykiss | North Pacific Ocean from the Kamchatka Peninsula in Asia to the northern Baja Peninsula | South-Central California Coast DPS—see 50 CFR 223.102 | T | 638 | 226.211 | 223.203
Steelhead (Southern California DPS) | Oncorhynchus mykiss | North Pacific Ocean from the Kamchatka Peninsula in Asia to the northern Baja Peninsula | Southern California DPS—see 50 CFR 224.101 | E | 638 | 226.211 | NA
Steelhead (Upper Columbia River DPS) | Oncorhynchus mykiss | North Pacific Ocean from the Kamchatka Peninsula in Asia to the northern Baja Peninsula | Upper Columbia River DPS—see 50 CFR 223.102 | T | 638 | 226.212 | 223.203
Steelhead (Upper Willamette River DPS) | Oncorhynchus mykiss | North Pacific Ocean from the Kamchatka Peninsula in Asia to the northern Baja Peninsula | Upper Willamette River DPS—see 50 CFR 223.102 | T | 664 | 226.212 | 223.203
* * * * * * *
Sturgeon, Atlantic (Atlantic subspecies; Carolina DPS) | Acipenser oxyrinchus oxyrinchus | Northwestern Atlantic Ocean | Carolina DPS—see 50 CFR 224.101 | E | 816 | NA | NA
Sturgeon, Atlantic (Atlantic subspecies; Chesapeake Bay DPS) | Acipenser oxyrinchus oxyrinchus | Northwestern Atlantic Ocean | Chesapeake Bay DPS—see 50 CFR 224.101 | E | 816 | NA | NA
Sturgeon, Atlantic (Atlantic subspecies; Gulf of Maine DPS) | Acipenser oxyrinchus oxyrinchus | Northwestern Atlantic Ocean | Gulf of Maine DPS—see 50 CFR 223.102 | T | 816 | NA | 223.211
Sturgeon, Atlantic (Atlantic subspecies; New York Bight DPS) | Acipenser oxyrinchus oxyrinchus | Northwestern Atlantic Ocean | New York Bight DPS—see 50 CFR 224.101 | E | 816 | NA | NA
Sturgeon, Atlantic (Atlantic subspecies; South Atlantic DPS) | Acipenser oxyrinchus oxyrinchus | Northwestern Atlantic Ocean | South Atlantic DPS—see 50 CFR 224.101 | E | 816 | NA | NA
Sturgeon, Atlantic (Gulf subspecies) | Acipenser oxyrinchus (=oxyrhynchus) desotoi) | U.S.A. (AL, FL, GA, LA, MS) | Entire | T | 444 | 17.95(e), 226.214 | 17.44(v)
* * * * * * *
Sturgeon, green (Southern DPS) | Acipenser medirostris | U.S.A. (CA) | Southern DPS—see 50 CFR 223.102 | T | 756 | 226.219 | 223.210
* * * * * * *
Sturgeon, white (Kootenai River DPS) | Acipenser transmontanus | U.S.A. (AK, CA, ID, MT, OR, WA), Canada (BC) | U.S.A. (ID, MT), Canada (BC), (Kootenai R. system) | E | 549 | 17.95(e) | NA
* * * * * * *
Snails
Abalone, black | Haliotis cracherodii | North America (West coast from Crescent City, CA, USA, to Cape San Lucas, Baja California, Mexico | Entire | E | 776 | 226.221 | NA
Abalone, white | Haliotis sorenseni | North America (West coast from Point Conception, CA, U.S.A., to Punta Abreojos, Baja California, Mexico) | Entire | E | 748 | NA | NA
* * * * * * *
Corals
Coral, elkhorn | Acropora palmata | U.S.A. (FL, PR, VI, Navassa); and wider Caribbean—Belize, Colombia, Costa Rica, Guatemala, Honduras, Mexico, Nicaragua, Panama, Venezuela, and all the islands of the West Indies | Entire | T | 756 | 226.216 | 223.208
Coral, staghorn | Acropora cervicornis | U.S.A. (FL, PR, VI, Navassa); and wider Caribbean—Belize, Colombia, Costa Rica, Guatemala, Honduras, Mexico, Nicaragua, Panama, Venezuela, and all the islands of the West Indies | Entire | T | 756 | 226.216 | 223.208

* * * * *

Dated: June 20, 2014.
Stephen Guertin,
Director, U.S. Fish and Wildlife Service.

[FR Doc. 2014-16756 Filed 7-22-14; 8:45 am]

BILLING CODE 4310-55-P